DEPARTMENT OF HEALTH AND HUMAN SERVICES

Health Resources and Service Administration

Advisory Committee on Interdisciplinary, Community-Based Linkages

AGENCY: Health Resources and Service Administration (HRSA), Department of Health and Human Services (HHS).

ACTION: Notice of meeting.

SUMMARY: In accordance with section 10(a)(2) of the Federal Advisory Committee Act (Pub. L. 92-463), notice is hereby given that a meeting is scheduled for Advisory Committee on Interdisciplinary, Community-Based Linkages (ACICBL). This meeting will be open to the public. Information about the ACICBL and the agenda for this meeting can be obtained by accessing the following Web site: http://www.hrsa.gov/advisorycommittees/bhpradvisory/acicbl/index.html. The agenda will be available 2 days prior to the meeting on the HRSA Web site listed above.

DATES: The meeting will be held on December 8, 2016 (10:00 a.m.-4:00 p.m.).

ADDRESSES: This meeting will be held via webinar and teleconference. Webinar information can be found on the Web site at: https://hrsa.connectsolutions.com/acicbl and below.

• The conference call-in number is 1-800-619-2521. The passcode is: 9271697.

• The Webinar link is https://hrsa.connectsolutions.com/acicbl.

FOR FURTHER INFORMATION CONTACT: Anyone requesting information regarding the ACICBL should contact Dr. Joan Weiss, Designated Federal Official, within the Bureau of Health Workforce, Health Resources and Services Administration, in one of three ways: (1) Send a request to the following address: Dr. Joan Weiss, Designated Federal Official, Bureau of Health Workforce, Health Resources and Services Administration, 5600 Fishers Lane, Room 15N39, Rockville, Maryland 20857; (2) call (301) 443-0430; or (3) send an email to jweiss@hrsa.gov.

SUPPLEMENTARY INFORMATION: The ACICBL provides advice and recommendations to the Secretary of HHS (Secretary) concerning policy, program development, and other matters of significance related to interdisciplinary, community-based training grant programs authorized under sections 750-759, Title VII, Part D of the Public Health Service (PHS) Act, as amended by the Affordable Care Act. The following sections of the PHS Act are included under Part D: 751—Area Health Education Centers; 752—Continuing Educational Support for Health Professionals Serving in Underserved Communities; 753—Geriatrics Workforce Enhancement; 754—Quentin N. Burdick Program for Rural Interdisciplinary Training; 755—Allied Health and Other Disciplines; 756—Mental and Behavioral Health Education and Training, and 759—Program for Education and Training in Pain Care.

Per the PHS Act section 757(d)(2), the Committee is responsible for publishing an annual report describing “the activities of the Committee, including findings and recommendations made by the Committee concerning the activities under this part.” The members of the ACICBL will discuss how they would like to proceed with and structure the statutorily mandated 17th report. They will also finalize the statutorily mandated 16th Annual Report to the Secretary and Congress on “Enhancing Community-Based Training Sites: Challenges and Opportunities.”

Members of the public will have the opportunity to provide comments. Oral comments will be honored in the order they are requested and may be limited as time allows. Requests to make oral comments or provide written comments to the ACICBL should be sent to Dr. Joan Weiss, Designated Federal Official, using the address and phone number above at least 3 days prior to the meeting.

Jason E. Bennett,
Director, Division of the Executive Secretariat.

[FR Doc. 2016-28469 Filed 11-25-16; 8:45 am]

BILLING CODE 4165-15-P